DEPARTMENT OF ENERGY

SunShot Prize: America's Most Affordable Rooftop

AGENCY: Office of Energy Efficiency and Renewable Energy, Department of Energy, DoE.

ACTION: Notice of public comment period.

SUMMARY: The Department of Energy (DOE) announces in this notice the release of the SunShot Prize: America's Most Affordable Rooftop Solar for public comment. Interested persons are encouraged to learn about the SunShot Prize: America's Most Affordable Rooftop rules at eere.energy.gov/solar/sunshot/prize.html.

DATES: DOE will accept comments regarding the SunShot Prize received no later than July 13, 2012.

ADDRESSES: To submit comments, interested persons are encouraged to follow any of the listed methods:

Email: SunShot.Prize@ee.doe.gov. Include “America's Most Affordable Rooftop” in the Subject line

Mail: U.S. Department of Energy, Office of Solar, 1000 Independence Avenue SW., Washington, DC 20585

FOR FURTHER INFORMATION CONTACT: Rachel Tronstein, U.S. Department of Energy, Solar Program, 1000 Independence Avenue SW., Washington, DC 20585. Email: SunShot.Prize@ee.doe.gov.

SUPPLEMENTARY INFORMATION: In 2011 the America COMPETES Reauthorization Act of 2010 was signed into law, authorizing the United States government to issue competitions in the areas of technology, education and science. The $10 million SunShot Prize: America's Most Affordable Rooftop Solar challenges the ingenuity of America's businesses and communities to make it faster, easier, and cheaper to install rooftop solar energy systems. Successful competitors will domestically deploy at least 5,000 new rooftop photovoltaic (PV) installations at average pre-subsidy sales price of $2 per watt before January 1, 2015. Winners will break a significant price barrier, considered to be unachievable a decade ago. Winners will prove that they can repeatedly achieve a $2 per watt install price using innovative, verifiable processes and business practices.

Today's notice announces the availability of draft procedures for administration of the prize competition. The DOE will consider any comments received by July 13, 2012 in adopting these procedures.

Issued in Denver, Colorado, on June 13, 2012.
David T. Danielson,
Assistant Secretary, Office of Energy Efficiency and Renewable Energy.

[FR Doc. 2012-14772 Filed 6-15-12; 8:45 am]

BILLING CODE 6450-01-P